DEPARTMENT OF HEALTH AND HUMAN SERVICES

Centers for Disease Control and Prevention

Regional Academic Environmental Public Health Centers

Announcement Type: New.

Funding Opportunity Number: 04114.

Catalog of Federal Domestic Assistance Number: 93.283.

Key Dates: Letter of Intent Deadline: April 12, 2004.

Application Deadline: May 10, 2004.

I. Funding Opportunity Description

Authority: Section 301 and 317 of the Public Health Service Act, [42 U.S.C. 241 and 247(b)], as amended.

Purpose: The purpose of the program is to facilitate the development of an integrated national system for academic institutions to assist and support state and local public health departments, and tribal health agencies in the delivery of environmental health services. This announcement will fund five academic institutions to serve as regional centers (one in each of the following regions: Northeast, Southeast, Midwest, Northwest and Southwest). The Centers will support environmental public health activities utilizing a framework that is based on the Ten Essential Public Health Services, the Ten Essential Environmental Services, Core Competencies of Effective Practice of Environmental Health (See Addendum), and the Centers for Disease Control's (CDC) A National Strategy to Revitalize Environmental Public Health Services, published September, 2003. (See: http://www.cdc.gov/nceh/ehs/Docs/NationalStrategy2003.pdf) This program addresses the “Healthy People 2010” focus areas of Environmental Health, Public Health Infrastructure, and Education and Community-Based Programs.

Measurable outcomes of the program will be in alignment with the following performance goal for the National Center for Environmental Health (NCEH): Increase the capacity of state and local health departments to deliver environmental health services to their communities.

Activities: The Awardees will assist state and local health departments in increasing or enhancing environmental health capacity by providing technical assistance in the areas of: (1) Outreach; (2) health hazard evaluations/investigations; and (3) program evaluation and training. These activities will result in the implementation of comprehensive state-of-the-art environmental health services, e.g., programs and/or interventions that positively impact air quality, water, waste management, integrated pest management, and/or food safety.

Awardees should engage in such activities as described below:

• Provide technical assistance to state and local environmental public health departments or their chosen entities in the realm of health hazard evaluations and investigations.

• Collaborate with state and local programs to assist them in evaluating their programs, including cost benefit analysis, prevention effectiveness analysis, and monitoring and responding to the environmental antecedents of disease occurrence.

• Train and educate state and local environmental public health department staff, where necessary or requested by environmental public health department staff, using already developed curriculum, to deliver environmental public health services utilizing the framework of the Ten Essential Public Health Services, the Ten Essential Environmental Services, Core Competencies of Effective Practice of Environmental Health, and CDC's A National Strategy to Revitalize Environmental Public Health Services.

• Disseminate findings.

In a cooperative agreement, CDC staff is substantially involved in the program activities, above and beyond routine grant monitoring.

CDC Activities for this program are as follows:

• Provide technical assistance and consultation to the award recipient to refine the project plan, data and information collection, and analysis instruments.

• Assist awardees with background information and in forming collaborative interactions.

• Assist awardees with preparation, review and clearance of manuscripts.

• Facilitate interaction among awardees and integration of activities into state and local environmental public health programs.

• Evaluate effectiveness and quality of environmental health services related to awardees activities.

II. Award Information

Type of Award: Cooperative Agreement. CDC involvement in this program is listed in the Activities Section above.

Fiscal Year Funds: 2004.

Approximate Total Funding: $800,000.

Approximate Number of Awards: Five total awards will be made based on one per region. The regions are designated as follows:

• Northeast (ME, VT, NH, MA, RI, CT, NY, NJ, PA, DE, MD, VA, District of Columbia)

• Southeast (NC, SC, KY, TN, GA, FL, AL, MS, AR, LA, U.S. Virgin Islands, Puerto Rico)

• Midwest (WV, MI, OH, IN, WI, IL, MN, IA, MO, KS)

• Northwest (ND, SD, NE, MT, WY, ID, WA, OR, AK)

• Southwest (OK, TX, CO, NM, UT, AZ, NV, CA, HI, Pacific Islands)

Approximate Average Award: $160,000 (This amount is for the first 12-month budget period, and includes both direct and indirect costs).

Floor of Award Range: None.

Ceiling of Award Range: $200,000.

Anticipated Award Date: September 1, 2004.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by:

• Academic institutions, including universities and colleges with accredited undergraduate or graduate environmental health programs.

• Accredited Schools of Public Health.

III.2. Cost Sharing or Matching

Matching funds are not required for this program.

III.3. Other

If you request a funding amount greater than the ceiling of the award range, your application will be considered non-responsive and will not be entered into the review process. You will be notified that your application did not meet the submission requirements.

This announcement is for submission of proposals that are not research. If your application contains research, it will be considered non-responsive to the announcement.

If your application is incomplete or non-responsive to the requirements listed below, it will not be entered into the review process. You will be notified that your application did not meet the submission requirements.

Eligibility is limited to academic institutions because of their expertise and resources in environmental public health that is available to support state and local environmental public health programs. Additionally, academic institutions have provided state and local health departments, environmental public health agencies, and other environmental health organizations with the trained workforce needed to deliver environmental health services.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI)

Your LOI must be written in the following format:

• Maximum number of pages: One page.

• Font size: 12-point unreduced.

• Single spaced.

• Paper size: 8.5 by 11 inches.

• Page margin size: One inch.

• Printed only on one side of page.

• Written in plain language, avoid jargon.

Your LOI must contain the following information:

• Name, address, and telephone number for key contact.

• Brief description of the proposed project.

Application

You must include a project narrative with your application forms. Your narrative must be submitted in the following format:

• Maximum number of pages: 25.

If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed:

• Describe your organizational resources and structure.

• Describe how the project will be administered, including job descriptions for all project positions.

• Describe the project's operational plan to function as a regional center. The operational plan should include the following components: (1) Description of the identified environmental health conditions within your region; (2) description of the resources available to support state and local health departments in addressing environmental public health issues; (3) description of the proposed activities to support state or local environmental public health programs; (4) knowledge and ability to educate and/or implement the ten essential environmental health and/or public health services, core function, and CDC strategy as they relate to proposed activities; (5) description of current and/or future partnerships with environmental public health programs and their need for assistance and support related to the delivery of environmental health services; (6) long and short term objectives, timelines and schedules for completion, and expected long and short term measurable outcomes; and (7) methodology for sustainability of activities or interventions beyond the funded period of the cooperative agreement.

• Describe the project's evaluation plan to measure the process and outcomes.

• Budget justifications.

Additional information may be included in the application appendices. The appendices will not be counted toward the narrative page limit. This additional information includes:

• Up to 30 pages of appendices may be included in the application. This may include: Curriculum Vitaes, Resumes, Organizational Charts, Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: April 12, 2004.

CDC requests that you send a LOI if you intend to apply for this program. Although the LOI is not required, not binding, and does not enter into the review of your subsequent application, the LOI will be used to gauge the level of interest in this program, and to allow CDC to plan the application review.

Application Deadline Date: May 10, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Funding restrictions, which must be taken into account while writing your budget, are as follows: None.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm

IV.6. Other Submission Requirements

LOI Submission Address: Submit your LOI by express mail, delivery service, fax, or E-mail to: Daneen Farrow-Collier, CDC/NCEH, 4770 Buford Highway, F-28, Atlanta, GA 30341, Telephone: 770-488-4945, Fax: 770-488-7310, E-mail: farrow-collier@cdc.gov.

Application Submission Address: Submit your application by mail or express delivery service to: Technical Information Management—PA04114, CDC Procurement and Grants Office, 2920 Brandywine Road, Atlanta, GA 30341.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Coordination and Collaboration (25 points)

The extent to which the applicant documents its collaboration with the community to implement the objectives of the project. This includes describing its relationship with environmental public health departments and other environmental agencies, academia, and community-based organizations as evidenced by documenting specific environmental public health issues or needs, letters of support, memoranda of agreement, and other documented evidence. The applicants may include up to ten letters of commitment (dated within the last three months) from key partners, participants, and community leaders that detail their participation in and support of the proposed activities.

2. Understanding of the Problem (20 points)

The extent to which the applicant understands the public health, social and economic consequences of inadequate environmental public health service delivery in their region based upon health and demographic indicators. This includes factors based on disease burden by age, gender and racial/ethnic groups, mortality rates, incidence, program experience, existing capacity, and infrastructure.

3. Objectives and Methods (20 points)

a. The extent to which the applicant has developed sound, feasible objectives that are consistent with the activities described in this announcement and are specific, measurable and time-framed.

b. The extent to which the applicant describes the specific activities and methods to achieve each objective.

c. The extent to which the proposed timeline and schedules are feasible. The timeline should include a tentative work plan for the duration of the project.

d. The extent to which the proposed activities or the project can be sustained beyond the funded period.

e. The extent to which the intent and desired outcomes for the proposed activities can be succinctly stated.

4. Program Evaluation (15 Points)

a. The evaluation plan should describe useful and appropriate strategies and approaches to monitor and improve the quality, effectiveness, and efficiency of the project.

b. The extent to which the applicant proposes to measure the progress and the overall impact of the project in terms of its contribution to improving the delivery of environmental health services. Examples are: (1) The reduction of environmentally related risk factors known to contribute to disease; (2) decreases in morbidity and mortality; and/or (3) the impact on incidence and prevalence of environmentally induced illness and disease.

5. Implementation of CDC's Strategy To Revitalize Environmental Public Health Services (10 Points)

The extent to which the applicant's operation plan has incorporated components of CDC's Strategy to Revitalize Environmental Public Health Services into developing an intervention or enhancing capacity. Specifically, the centers should demonstrate the ability to assist communities in implementing all ten of the essential environmental health and/or public health services, and core competencies.

6. Project Management and Staffing (10 Points)

The extent to which the applicant documents skills, ability, and experience of key staff who will be responsible for developing, implementing, and carrying out the requirements of the project. Specifically, the applicant should: describe staff roles in the development and implementation of the project, their specific responsibilities, and their level of effort and time commitment. If necessary, assurances should be provided to demonstrate the applicant's ability to fill key positions though its personnel hiring system within a reasonable amount of time after receiving funds.

7. Budget Justification (not scored)

The extent to which the budget is clearly explained, adequately justified, and is reasonable and consistent with the stated objectives and planned activities.

V.2. Review and Selection Process

Applications will be reviewed for completeness by the Procurement and Grants Office (PGO) staff and for responsiveness by NCEH. Incomplete applications and applications that are non-responsive to the eligibility criteria will not advance through the review process. Applicants will be notified that their application did not meet submission requirements.

An objective review panel will evaluate complete and responsive applications according to the criteria listed in the “V.1. Criteria” section above.

In addition, the following factor may affect the funding decision: The geographic location of applicant

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html

The following additional requirements apply to this project:

• AR-1 Human Subjects Requirements

• AR-2 Requirements for Inclusion of Women and Racial and Ethnic Minorities in Research

• AR-8 Public Health System Reporting Requirements

• AR-9 Paperwork Reduction Act Requirements

• AR-10 Smoke-Free Workplace Requirements

• AR-11 Healthy People 2010

• AR-12 Lobbying Restrictions

• AR-25 Release and Sharing of Data

Additional information on these requirements can be found on the CDC web site at the following Internet address: http://www.cdc.gov/od/pgo/funding/ARs.htm.

VI.3. Reporting Requirements

You must provide CDC with an original, plus two hard copies of the following reports:

1. Interim progress report, no less than 90 days before the end of the budget period The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Daneen Farrow-Collier, Project Officer, CDC/NCEH, 4770 Buford Highway, Atlanta, GA 30341, Telephone: 770-488-4945, Fax: 770-488-7310, Email: farrow-collier@cdc.gov.

For financial, grants management, or budget assistance, contact: Mildred Garner, Grants Management Specialist, CDC Procurement and Grants Office, 2920 Brandywine Road, Atlanta, GA 30341, Telephone: 770-488-2745, E-mail: mgarner@cdc.gov.

Dated: March 4, 2004.
Sandra R. Manning,
Director, Procurement and Grants Office, Centers for Disease Control and Prevention.

[FR Doc. 04-5438 Filed 3-10-04; 8:45 am]

BILLING CODE 4163-18-P